DEPARTMENT OF THE INTERIOR

Minerals Management Service

30 CFR Part 250

RIN 1010-AD24

Oil and Gas and Sulphur Operations in the Outer Continental Shelf—Update of New and Reaffirmed Documents Incorporated by Reference

AGENCY: Minerals Management Service (MMS), Interior.

ACTION: Final rule.

SUMMARY: This final rule incorporates 33 new editions and 37 reaffirmed editions of documents previously incorporated by reference in regulations governing oil and gas and sulphur operations in the Outer Continental Shelf (OCS). The new and reaffirmed editions of these documents will ensure that lessees use the best and safest technologies available while operating in the OCS. The final rule also updates citations for documents that were incorporated by reference in recent final rules.

DATES: Effective Date: April 16, 2007. The incorporation by reference of publications listed in the regulation is approved by the Director of the Federal Register as of April 16, 2007.

FOR FURTHER INFORMATION CONTACT: Wilbon Rhome at (703) 787-1587.

SUPPLEMENTARY INFORMATION: The MMS uses standards, specifications, and recommended practices developed by standard-setting organizations and the oil and gas industry as a means of establishing requirements for activities on the OCS. This practice, known as incorporation by reference, allows us to incorporate the provisions of technical standards into the regulations. The legal effect of incorporation by reference is that the material is treated as if the entire document were published in the Federal Register. This material, like any other properly issued regulation, then has the force and effect of law. We hold operators/lessees accountable for complying with the documents incorporated by reference in our regulations. We currently incorporate by reference 93 private sector consensus standards into the offshore operating regulations.

The regulations at 1 CFR part 51 govern how we and other Federal agencies incorporate various documents by reference. Agencies may only incorporate a document by reference by publishing the document title and affirmation/reaffirmation date in the Federal Register. Agencies must also gain approval from the Director of the Federal Register for each publication incorporated by reference. Incorporation by reference of a document or publication is limited to the specific edition, supplement, or addendum cited in the regulations.

Under 5 U.S.C. 553, MMS may update documents without an opportunity for public comment when we determine that the revisions to a document result in safety improvements, or represent new industry standard technology and do not impose undue cost or burden on the affected parties. Accordingly, this final rule incorporates the new editions of 33 documents and 37 reaffirmed documents previously incorporated by reference in regulations governing oil and gas and sulphur operations in the OCS. These new and reaffirmed documents will ensure that lessees use the best and safest technologies available while operating in the OCS.

The MMS has reviewed these documents and determined the new editions must be incorporated into the regulations to ensure the use of the best and safest technologies. Our review shows that changes between the old and new editions result in safety improvements, or represent new industry standard technology and will not impose undue cost or burden on the offshore oil and gas industry. The old editions are not readily available to the affected parties because they are out of publication; therefore, we are amending our regulations to incorporate the updated editions according to the authority in 30 CFR 250.198(a)(2). We are also amending those sections of the regulations where the title of the document has changed.

In this final rule, reaffirmed means an action taken by the API standards committee, normally within a 5-year timeframe, confirming that the information contained within the standard is still applicable and requires no change at this time. Additionally, the edition number and date of the standard does not change as a result of reaffirmation by the standards committee.

Revised Editions

The revised editions of the documents previously incorporated by reference are:

Title of documents
ANSI/AISC 360-05, Specification for Reinforced Steel Buildings, March 9, 2005.
ANSI/ASME Boiler and Pressure Vessel Code, Section I, Rules for Construction of Power Boilers; including Appendices 2004 Edition; and July 1, 2005 Addenda, Rules for Construction of Power Boilers, by ASME Boiler and Pressure Vessel Committee Subcommittee on Power Boilers; and all Section I Interpretations Volume 55.
ANSI/ASME Boiler and Pressure Vessel Code, Section IV, Rules for Construction of Heating Boilers; including Appendices 1, 2, 3, 5, 6, and Non-mandatory Appendices B, C, D, E, F, H, I, K, L, and M, and the Guide to Manufacturers Data Report Forms, 2004 Edition; July 1, 2005 Addenda, Rules for Construction of Heating Boilers, by ASME Boiler and Pressure Vessel Committee Subcommittee on Heating Boilers; and all Section IV Interpretations Volume 55.
ANSI/ASME Boiler and Pressure Vessel Code, Section VIII, Rules for Construction of Pressure Vessels; Divisions 1 and 2, 2004 Edition; July 1, 2005 Addenda, Divisions 1 and 2, Rules for Construction of Pressure Vessels, by ASME Boiler and Pressure Vessel Committee Subcommittee on Pressure Vessels; and all Section VIII Interpretations Volumes 54 and 55.
ANSI/ASME B 16.5-2003, Pipe Flanges and Flanged Fittings.
ANSI/ASME B 31.8-2003, Gas Transmission and Distribution Piping Systems.
API 510, Pressure Vessel Inspection Code: In-Service Inspection, Rating, Repair, and Alteration, Downstream Segment, Ninth Edition, June 2006, API Stock No. C51009.
API MPMS, Chapter 3-Tank Gauging, Section 1A—Standard Practice for the Manual Gauging of Petroleum and Petroleum Products, Second Edition, August 2005, API Stock No. H301A02.
API MPMS, Chapter 3-Tank Gauging, Section 1B—Standard Practice for Level Measurement of Liquid Hydrocarbons in Stationary Tanks by Automatic Tank Gauging, Second Edition, June 2001, API Stock No. H301B2.
API MPMS, Chapter 4—Proving Systems, Section 1—Introduction, Third Edition, February 2005, API Stock No. H04013.
API MPMS, Chapter 4—Proving Systems, Section 2—Displacement Provers, Third Edition, September 2003, API Stock No. H04023.
API MPMS, Chapter 4—Proving Systems, Section 4—Tank Provers, Second Edition, May 1998, API Stock No. H04042.
API MPMS, Chapter 4—Proving Systems, Section 5—Master-Meter Provers, Second Edition, May 2000, API Stock No. H04052.
API MPMS, Chapter 5—Metering, Section 1—General Considerations for Measurement by Meters, Measurement Coordination Department, Fourth Edition, September 2005, API Stock No. H05014.
API MPMS, Chapter 5—Metering, Section 2—Measurement of Liquid Hydrocarbons by Displacement Meters, Third Edition, September 2005, API Stock No. H05023.
API MPMS Chapter 5—Metering, Section 3—Measurement of Liquid Hydrocarbons by Turbine Meters, Fifth Edition, September 2005, API Stock No. H05035.
API MPMS, Chapter 5—Metering, Section 4—Accessory Equipment for Liquid Meters, Fourth Edition, September 2005, API Stock No. H05044.
API MPMS, Chapter 5—Metering, Section 5—Fidelity and Security of Flow Measurement Pulsed-Data Transmission Systems, Second Edition, August 2005, API Stock No. H50502.
API MPMS, Chapter 7—Temperature Determination, Measurement Coordination, First Edition, June 2001, API Stock No. H07001.
API MPMS, Chapter 9—Density Determination, Section 1—Standard Test Method for Density, Relative Density (Specific Gravity), or API Gravity of Crude Petroleum and Liquid Petroleum Products by Hydrometer Method, Second Edition, December 2002; reaffirmed October 2005, API Stock No. H09012.
API MPMS, Chapter 9—Density Determination, Section 2—Standard Test Method for Density or Relative Density of Light Hydrocarbons by Pressure Hydrometer, Second Edition, March 2003, API Stock No. H09022.
API MPMS, Chapter 10—Sediment and Water, Section 1—Standard Test Method for Sediment in Crude Oils and Fuel Oils by the Extraction Method, Second Edition, October 2002, API Stock No. H10012.
API MPMS, Chapter 10—Sediment and Water, Section 3—Standard Test Method for Water and Sediment in Crude Oil by the Centrifuge Method (Laboratory Procedure), Second Edition, May 2003, API Stock No. H10032.
API MPMS, Chapter 10—Sediment and Water, Section 4—Determination of Water and/or Sediment in Crude Oil by the Centrifuge Method (Field Procedure), Third Edition, December 1999, API Stock No. H10043.
API MPMS, Chapter 10—Sediment and Water, Section 9—Standard Test Method for Water in Crude Oils by Coulometric Karl Fischer Titration, Second Edition, December 2002; reaffirmed 2005, API Stock No. H10092.
API MPMS, Chapter 14—Natural Gas Fluids Measurement, Section 3—Concentric, Square-Edged Orifice Meters, Part 2—Specification and Installation Requirements, Fourth Edition, April 2000; reaffirmed March 2006, API Stock No. H30351.
API RP 2D, Recommended Practice for Operation and Maintenance of Offshore Cranes, Fifth Edition, June 2003, API Stock No. G02D05.
API RP 2SK, Recommended Practice for Design and Analysis of Stationkeeping Systems for Floating Structures, Third Edition, October 2005, API Stock No. G2SK03.
API RP 14B, Recommended Practice for Design, Installation, Repair and Operation of Subsurface Safety Valve Systems, Fifth Edition, October 2005, also available as ISO 10417: 2004, (Identical) Petroleum and natural gas industries—Subsurface safety valve systems—Design, installation, operation and redress, API Stock No. GX14B05.
API Spec. Q1, Specification for Quality Programs for the Petroleum, Petrochemical and Natural Gas Industry, ANSI/API Specification Q1, Seventh Edition, June 15, 2003; also available as ISO/TS 29001, Effective Date: December 15, 2003, Proposed National Adoption, API Stock No. GQ1007.
API Spec. 2C, Specification for Offshore Pedestal Mounted Cranes, Sixth Edition, March 2004, Effective Date: September 2004, API Stock No. G02C06.
API Spec. 6A, Specification for Wellhead and Christmas Tree Equipment, ANSI/API Specification 6A, Nineteenth Edition, July 2004; also available as ISO 10423:2003, (Modified) Petroleum and natural gas industries—Drilling and production equipment—Wellhead and Christmas tree equipment, Effective Date: February 1, 2005; Errata 1, September 1, 2004, API Stock No. GX06A19.
API Spec. 6D, Specification for Pipeline Valves, Twenty-second Edition, January 2002; also available as ISO 14313:1999, MOD, Petroleum and natural gas industries—Pipeline transportation systems—Pipeline valves, Effective Date: July 1, 2002, Proposed National Adoption, includes Annex F, March 1, 2005, API Stock No. G06D22.

Reaffirmed Documents

The reaffirmed documents previously incorporated by reference are:

Title of documents
ACI 357R-84, Guide for the Design and Construction of Fixed Offshore Concrete Structures, 1984; reapproved 1997.
API MPMS, Chapter 2—Tank Calibration, Section 2A—Measurement and Calibration of Upright Cylindrical Tanks by the Manual Tank Strapping Method, First Edition, February 1995; reaffirmed March 2002, API Stock No. H022A1.
API MPMS, Chapter 2—Tank Calibration, Section 2B—Calibration of Upright Cylindrical Tanks Using the Optical Reference Line Method, First Edition, March 1989; reaffirmed March 2002, API Stock No. H30023.
API MPMS, Chapter 4—Proving Systems, Section 6—Pulse Interpolation, Second Edition, July 1999; reaffirmed 2003, API Stock No. H06042.
API MPMS, Chapter 4—Proving Systems, Section 7—Field Standard Test Measures, Second Edition, December 1998; reaffirmed October 2003, API Stock No. H04072.
API MPMS, Chapter 6—Metering Assemblies, Section 1—Lease Automatic Custody Transfer (LACT) Systems, Second Edition, May 1991; reaffirmed March 2002, API Stock No. H30121.
API MPMS, Chapter 6—Metering Assemblies, Section 6—Pipeline Metering Systems, Second Edition, May 1991; reaffirmed March 2002, API Stock No. H30126.
API MPMS, Chapter 6—Metering Assemblies, Section 7—Metering Viscous Hydrocarbons, Second Edition, May 1991; reaffirmed March 2002, API Stock No. H30127.
API MPMS, Chapter 8—Sampling, Section 1—Standard Practice for Manual Sampling of Petroleum and Petroleum Products, Third Edition, October 1995; reaffirmed March 2006, API Stock No. H30161.
API MPMS, Chapter 8—Sampling, Section 2—Standard Practice for Automatic Sampling of Liquid Petroleum and Petroleum Products, Second Edition, October 1995; reaffirmed June 2005, API Stock No. H08022.
API MPMS, Chapter 10—Sediment and Water, Section 2—Determination of Water in Crude Oil by the Distillation Method, First Edition, April 1981; reaffirmed 2005, API Stock No. H30202.
API MPMS, Chapter 11.1—Volume Correction Factors, Volume 1, Table 5A—Generalized Crude Oils and JP-4 Correction of Observed API Gravity to API Gravity at 60 °F, and Table 6A—Generalized Crude Oils and JP-4 Correction of Volume to 60 °F Against API Gravity at 60 °F, API Standard 2540, First Edition, August 1980; reaffirmed March 1997, API Stock No. H27000.
API MPMS, Chapter 11.2.2—Compressibility Factors for Hydrocarbons: 0.350-0.637 Relative Density (60 °F/60 °F) and −50 °F to 140 °F Metering Temperature, Second Edition, October 1986; reaffirmed December 2002, API Stock No. H27307.
API MPMS, Chapter 11—Physical Properties Data, Addendum to Section 2, Part 2—Compressibility Factors for Hydrocarbons, Correlation of Vapor Pressure for Commercial Natural Gas Liquids, First Edition, December 1994; reaffirmed December 2002, API Stock No. H27308.
API MPMS, Chapter 12—Calculation of Petroleum Quantities, Section 2—Calculation of Petroleum Quantities Using Dynamic Measurement Methods and Volumetric Correction Factors, Part 1—Introduction, Second Edition, May 1995; reaffirmed March 2002, API Stock No. 852-12021.
API MPMS, Chapter 14—Natural Gas Fluids Measurement, Section 3—Concentric, Square-Edged Orifice Meters, Part 1—General Equations and Uncertainty Guidelines, Third Edition, September 1990; reaffirmed January 2003, API Stock No. H30350.
API MPMS, Chapter 14—Natural Gas Fluids Measurement, Section 3—Concentric, Square-Edged Orifice Meters, Part 3—Natural Gas Applications, Third Edition, August 1992; reaffirmed January 2003, API Stock No. H30353.
API MPMS, Chapter 14.5—Calculation of Gross Heating Value, Relative Density and Compressibility Factor for Natural Gas Mixtures from Compositional Analysis, Second Edition, revised 1996; reaffirmed March 2002, API Stock No. H14052.
API MPMS, Chapter 14—Natural Gas Fluids Measurement, Section 6—Continuous Density Measurement, Second Edition, April 1991; reaffirmed February 2006, API Stock No. H30346.
API MPMS, Chapter 14—Natural Gas Fluids Measurement, Section 8—Liquefied Petroleum Gas Measurement, Second Edition, July 1997; reaffirmed March 2002, API Stock No. H14082.
API MPMS, Chapter 20—Section 1—Allocation Measurement, First Edition, August 1993; reaffirmed October 2006, API Stock No. H30701.
API MPMS, Chapter 21—Flow Measurement Using Electronic Metering Systems, Section 1—Electronic Gas Measurement, First Edition, August 1993; reaffirmed July 2005, API Stock No. H30730.
API RP 2A-WSD, Recommended Practice for Planning, Designing and Constructing Fixed Offshore Platforms—Working Stress Design, Twenty-first Edition, December 2000; Errata and Supplement 1, December 2002; Errata and Supplement 2, October 2005, API Stock No. G2AWSD.
API RP 14E, Recommended Practice for Design and Installation of Offshore Production Platform Piping Systems, Fifth Edition, October 1, 1991; reaffirmed June 2000, API Stock No. G07185.
API RP 14G, Recommended Practice for Fire Prevention and Control on Open Type Offshore Production Platforms, Third Edition, December 1, 1993; reaffirmed June 2000, API Stock No. G07194.
API RP 53, Recommended Practices for Blowout Prevention Equipment Systems for Drilling Wells, Third Edition, March 1997; reaffirmed September 2004, API Stock No. G53003.
API RP 500, Recommended Practice for Classification of Locations for Electrical Installations at Petroleum Facilities Classified as Class I, Division 1 and Division 2, Second Edition, November 1997; reaffirmed November 2002, API Stock No. C50002.
API RP 505, Recommended Practice for Classification of Locations for Electrical Installations at Petroleum Facilities Classified as Class I, Zone 0, Zone 1, and Zone 2, First Edition, November 1997; reaffirmed November 2002, API Stock No. C50501.
API RP 2556, Recommended Practice for Correcting Gauge Tables for Incrustation, Second Edition, August 1993; reaffirmed November 2003, API Stock No. H25560.
API Spec. 6AV1, Specification for Verification Test of Wellhead Surface Safety Valves and Underwater Safety Valves for Offshore Service, First Edition, February 1, 1996; reaffirmed January 2003, API Stock No. G06AV1.
API Standard 2551, Measurement and Calibration of Horizontal Tanks, First Edition, 1965; reaffirmed March 2002, API Stock No. H25510.
API Standard 2552, USA Standard Method for Measurement and Calibration of Spheres and Spheroids, first Edition, 1966; reaffirmed February 2006, API Stock No. H25520.
API Standard 2555, Method for Liquid Calibration of Tanks, First Edition, September 1966; reaffirmed March 2002; API Stock No. H25550.
AWS D1.1:2000, Structural Welding Code—Steel.
AWS D3.6M:1999, Specification for Underwater Welding.
NACE Standard MR0175-2003, Item No. 21302, Standard Material Requirements, Metals for Sulfide Stress Cracking and Stress Corrosion Cracking Resistance in Sour Oilfield Environments.
NACE Standard RP0176-2003, Item No. 21018, Standard Recommended Practice, Corrosion Control of Steel Fixed Offshore Structures Associated with Petroleum Production.

Withdrawn Documents

Some documents were combined as follows: API MPMS Chapter 4, sections 2 and 3 were combined; API MPMS Chapter 7, sections 2 and 3 were combined; and API MPMS Chapters 11.2.1 and 11.2.3 were combined. MMS is withdrawing six documents and replacing them with three documents as follows:

Title of documents withdrawn | Title of replacing documents
API MPMS, Chapter 4, Section 2, Conventional Pipe Provers, Third Edition, September 2003, API Stock No. H30082. API MPMS, Chapter 4, Section 3, Small Volume Provers, First Edition, July 1988, reaffirmed March 2002, API Stock No. H30083. | API MPMS, Chapter 4—Proving Systems, Section 2—Displacement Provers, Third Edition, September 2003, API Stock No. H04023.
API MPMS, Chapter 7, Temperature Determination, Section 2, Dynamic Temperature Determination, Second Edition, March 1995, API Stock No. H07022. API MPMS, Chapter 7, Section 3, Static Temperature Determination Using Portable Electronic Thermometers, First Edition, July 1985, reaffirmed May 1996, API Stock No. H30143. | API MPMS, Chapter 7—Temperature Determination, Measurement Coordination, First Edition, June 2001, API Stock No. H07001.
API MPMS, Chapter 11.2.1, Compressibility Factors for Hydrocarbons: 0-90 ° API Gravity Range, First Edition, August 1984; reaffirmed May 1996, API Stock No. H27300. API MPMS, Chapter 11.2.3, Water Calibration of Volumetric Provers, First Edition, August 1984; reaffirmed May 1996, API Stock No. H27310. | MPMS Measurement Standards Chapter 11.1, Volume Correction Factors, Volume 1 * * * First Edition, August 1980; reaffirmed March 1997, API Stock No. H27000.

The purpose of this final rule is to incorporate the revision of some documents previously incorporated by reference into MMS regulations, and to acknowledge the reaffirmation of other documents previously incorporated by reference into MMS regulations.

Procedural Matters

Regulatory Planning and Review (Executive Order (E.O.) 12866)

This final rule is not a significant rule as determined by the Office of Management and Budget (OMB) and is not subject to review under E.O. 12866.

(1) The final rule will not have an annual effect of $100 million or more on the economy. It will not adversely affect in a material way the economy, productivity, competition, jobs, the environment, public health or safety, or State, local, or tribal governments or communities. This final rule will not have any new requirements.

(2) The final rule will not create a serious inconsistency or otherwise interfere with an action taken or planned by another agency because it does not affect how lessees or operators interact with other agencies, nor does it affect how MMS will interact with other agencies.

(3) The final rule will not alter the budgetary effects or entitlements, grants, user fees, or loan programs, or the rights or obligations of their recipients. The changes in this final rule will not impose undue cost on the offshore oil and gas industry.

(4) The final rule will not raise novel legal or policy issues.

Regulatory Flexibility Act (RFA)

The Department certifies that this final rule will not have a significant economic effect on a substantial number of small entities under the RFA (5 U.S.C. 601 et seq.).

The changes proposed in this final rule would affect lessees and operators of leases and pipeline right-of-way holders on the OCS. This could include about 130 active Federal oil and gas lessees. Small lessees that operate under this rule fall under the Small Business Administration's (SBA) North American Industry Classification System (NAICS) codes 211111, Crude Petroleum and Natural Gas Extraction, and 213111, Drilling Oil and Gas Wells. For these NAICS code classifications, a small company is one with fewer than 500 employees. Based on these criteria, an estimated 70 percent of these companies are considered small. This final rule, therefore would affect a substantial number of small entities.

The changes proposed in the rule will not have a significant economic effect on a substantial number of small entities because it will not impose undue cost or burden on the offshore oil and gas industry.

Your comments are important. The Small Business and Agriculture Regulatory Enforcement Ombudsman and 10 Regional Fairness boards were established to receive comments from small businesses about Federal agency enforcement actions. The Ombudsman will annually evaluate the enforcement activities and rate each agency's responsiveness to small businesses. If you wish to comment on the actions of MMS, call 1-888-734-3247. You may comment to the Small Business Administration without fear of retaliation. Disciplinary action for retaliation by an MMS employee may include suspension or termination from employment with the DOI.

Small Business Regulatory Enforcement Fairness Act (SBREFA)

This final rule is not a major rule under the SBREFA (5 U.S.C. 804(2)). This final rule:

a. Will not have an annual effect on the economy of $100 million or more. The only costs will be the purchase of the new document and minor revisions to some operating and maintenance procedures.

b. Will not cause a major increase in costs or prices for consumers, individual industries, Federal, State, or local government agencies, or geographic regions.

c. Will not have significant adverse effects on competition, employment, investment, productivity, innovation, or the ability of U.S.-based enterprises to compete with foreign-based enterprises. Leasing on the U.S. OCS is limited to residents of the U.S. or companies incorporated in the U.S. This final rule will not change that requirement.

Unfunded Mandates Reform Act (UMRA)

This final rule will not impose an unfunded mandate on State, local, and tribal governments or the private sector of more than $100 million per year. The rule will not have a significant or unique effect on State, local, or tribal governments or the private sector. A statement containing the information required by the UMRA (2 U.S.C. 1531 et seq.) is not required. This is because the rule will not affect State, local, or tribal governments, and the effect on the private sector is small.

Takings Implication Assessment (Executive Order 12630)

This final rule is not a governmental action capable of interference with constitutionally protected property rights. Thus, MMS did not need to prepare a Takings Implication Assessment according to E.O. 12630, Governmental Actions and Interference with Constitutionally Protected Property Rights.

Federalism (Executive Order 13132)

With respect to E.O. 13132, this final rule will not have federalism implications. This rule will not substantially and directly affect the relationship between the Federal and State governments. To the extent that State and local governments have a role in OCS activities, this rule will not affect that role.

Civil Justice Reform (Executive Order 12988)

With respect to E.O. 12988, the Office of the Solicitor has determined that the final rule will not unduly burden the judicial system and will meet the requirements of sections 3(a) and 3(b)(2) of the Order.

Paperwork Reduction Act (PRA) of 1995

The Department of the Interior has determined that this regulation does not contain information collection requirements pursuant to PRA (44 U.S.C. 3501 et seq.). The MMS will not be submitting an information collection request to OMB.

National Environmental Policy Act (NEPA) of 1969

This rule does not constitute a major Federal action significantly affecting the quality of the human environment. MMS has analyzed this rule under the criteria of the NEPA and 516 Departmental Manual 6, Appendix 10.4C(1). MMS completed a Categorical Exclusion Review for this action and concluded that “the rulemaking does not represent an exception to the established criteria for categorical exclusion; therefore, preparation of an environmental analysis or environmental impact statement will not be required.”

Energy Supply, Distribution, or Use (Executive Order 13211)

Executive Order 13211 requires the agency to prepare a Statement of Energy Effects when it takes a regulatory action that is identified as a significant energy action. This rule is not a significant energy action, and therefore will not require a Statement of Energy Effects, because it:

a. Is not a significant regulatory action under E.O. 12866,

b. Is not likely to have a significant adverse effect on the supply, distribution, or use of energy, and

c. Has not been designated by the Administrator of the Office of Information and Regulatory Affairs, OMB, as a significant energy action.

Consultation with Indian Tribes (Executive Order 13175)

Under the criteria in E.O. 13175, we have evaluated this rule and determined that it has no potential effects on federally recognized Indian tribes. There are no Indian or tribal lands on the OCS.

List of Subjects in 30 CFR Part 250

Continental shelf, Environmental impact statements, Environmental protection, Government contracts, Incorporation by reference, Investigations, Oil and gas exploration, Penalties, Pipelines, Public lands—mineral resources, Public lands—rights-of-way, Reporting and recordkeeping requirements.

Dated: February 5, 2007.
C. Stephen Allred,
Assistant Secretary—Land and Minerals Management.

For the reasons stated in the preamble, Minerals Management Service (MMS) amends 30 CFR part 250 as follows:

PART 250—OIL AND GAS AND SULPHUR OPERATIONS IN THE OUTER CONTINENTAL SHELF

1. The authority citation for Part 250 continues to read as follows:

Authority: 43 U.S.C. 1331 et seq., 31 U.S.C. 9701.

2. In § 250.108, revise paragraph (c) to read as follows:

§ 250.108 What requirements must I follow for cranes and other material-handling equipment?

* * * * *

(c) If a fixed platform is installed after March 17, 2003, all cranes on the platform must meet the requirements of American Petroleum Institute Specification for Offshore Pedestal Mounted Cranes (API Spec 2C), incorporated by reference as specified in 30 CFR 250.198.

* * * * *

3. In § 250.198, revise the table in paragraph (e) to read as follows:

§ 250.198 Documents incorporated by reference.

* * * * *

(e) * * *

Title of documents | Incorporated by reference at
ACI Standard 318-95, Building Code Requirements for Reinforced Concrete (ACI 318-95) and Commentary (ACI 318R-95) | § 250.901(a)(1).
ACI 357R-84, Guide for the Design and Construction of Fixed Offshore Concrete Structures, 1984; reapproved 1997 | § 250.901(a)(2).
ANSI/AISC 360-05, Specification for Structural Steel Buildings, March 9, 2005 | § 250.901(a)(3).
ANSI/ASME Boiler and Pressure Vessel Code, Section I, Rules for Construction of Power Boilers; including Appendices 2004 Edition; and July 1, 2005 Addenda, Rules for Construction of Power Boilers, by ASME Boiler and Pressure Vessel Committee Subcommittee on Power Boilers; and all Section I Interpretations Volume 55 | § 250.803(b)(1), (b)(1)(i); § 250.1629(b)(1), (b)(1)(i).
ANSI/ASME Boiler and Pressure Vessel Code, Section IV, Rules for Construction of Heating Boilers; including Appendices 1, 2, 3, 5, 6, and Non-mandatory Appendices B, C, D, E, F, H, I, K, L, and M, and the Guide to Manufacturers Data Report Forms, 2004 Edition; July 1, 2005 Addenda, Rules for Construction of Heating Boilers, by ASME Boiler and Pressure Vessel Committee Subcommittee on Heating Boilers; and all Section IV Interpretations Volume 55 | § 250.803(b)(1), (b)(1)(i); § 250.1629(b)(1), (b)(1)(i).
ANSI/ASME Boiler and Pressure Vessel Code, Section VIII, Rules for Construction of Pressure Vessels; Divisions 1 and 2, 2004 Edition; July 1, 2005 Addenda, Divisions 1 and 2, Rules for Construction of Pressure Vessels, by ASME Boiler and Pressure Vessel Committee Subcommittee on Pressure Vessels; and all Section VIII Interpretations Volumes 54 and 55 | § 250.803(b)(1), (b)(1)(i); § 250.1629(b)(1), (b)(1)(i).
ANSI/ASME B 16.5-2003, Pipe Flanges and Flanged Fittings | § 250.1002(b)(2).
ANSI/ASME B 31.8-2003, Gas Transmission and Distribution Piping Systems | § 250.1002(a).
ANSI/ASME SPPE-1-1994 and SPPE-1d-1996 Addenda, Quality Assurance and Certification of Safety and Pollution Prevention Equipment Used in Offshore Oil and Gas Operations | § 250.806(a)(2)(i).
ANSI Z88.2-1992, American National Standard for Respiratory Protection | § 250.490(g)(4)(iv), (j)(13)(ii).
API 510, Pressure Vessel Inspection Code: In-Service Inspection, Rating, Repair, and Alteration, Downstream Segment, Ninth Edition, June 2006, API Stock No. C51009 | § 250.803(b)(1); § 250.1629(b)(1).
API MPMS, Chapter 1—Vocabulary, Second Edition, July 1994, API Stock No. H01002 | § 250.1201.
API MPMS, Chapter 2—Tank Calibration, Section 2A—Measurement and Calibration of Upright Cylindrical Tanks by the Manual Tank Strapping Method, First Edition, February 1995; reaffirmed March 2002, API Stock No. H022A1 | § 250.1202(l)(4).
API MPMS, Chapter 2—Tank Calibration, Section 2B—Calibration of Upright Cylindrical Tanks Using the Optical Reference Line Method, First Edition, March 1989; reaffirmed March 2002, API Stock No. H30023 | § 250.1202(l)(4).
API MPMS, Chapter 3—Tank Gauging, Section 1A—Standard Practice for the Manual Gauging of Petroleum and Petroleum Products, Second Edition, August 2005, API Stock No. H301A02 | § 250.1202(l)(4).
API MPMS, Chapter 3—Tank Gauging, Section 1B—Standard Practice for Level Measurement of Liquid Hydrocarbons in Stationary Tanks by Automatic Tank Gauging, Second Edition, June 2001, API Stock No. H301B2 | § 250.1202(l)(4).
API MPMS, Chapter 4—Proving Systems, Section 1—Introduction, Third Edition, February 2005, API Stock No. H04013 | § 250.1202(a)(3), (f)(1).
API MPMS, Chapter 4—Proving Systems, Section 2—Displacement Provers, Third Edition, September 2003, API Stock No. H04023 | § 250.1202(a)(3), (f)(1).
API MPMS, Chapter 4—Proving Systems, Section 4—Tank Provers, Second Edition, May 1998, API Stock No. H04042 | § 250.1202(a)(3), (f)(1).
API MPMS, Chapter 4—Proving Systems, Section 5—Master-Meter Provers, Second Edition, May 2000, API Stock No. H04052 | § 250.1202(a)(3), (f)(1).
API MPMS, Chapter 4—Proving Systems, Section 6—Pulse Interpolation, Second Edition, July 1999; reaffirmed 2003, API Stock No. H06042 | § 250.1202(a)(3), (f)(1).
API MPMS, Chapter 4—Proving Systems, Section 7—Field Standard Test Measures, Second Edition, December 1998; reaffirmed 2003, API Stock No. H04072 | § 250.1202(a)(3), (f)(1).
API MPMS, Chapter 5—Metering, Section 1—General Considerations for Measurement by Meters, Measurement Coordination Department, Fourth Edition, September 2005, API Stock No. H05014 | § 250.1202(a)(3).
API MPMS, Chapter 5—Metering, Section 2—Measurement of Liquid Hydrocarbons by Displacement Meters, Third Edition, September 2005, API Stock No. H05023 | § 250.1202(a)(3).
API MPMS Chapter 5—Metering, Section 3—Measurement of Liquid Hydrocarbons by Turbine Meters, Fifth Edition, September 2005, API Stock No. H05035 | § 250.1202(a)(3).
API MPMS, Chapter 5—Metering, Section 4—Accessory Equipment for Liquid Meters, Fourth Edition, September 2005, API Stock No. H05044 | § 250.1202(a)(3).
API MPMS, Chapter 5—Metering, Section 5—Fidelity and Security of Flow Measurement Pulsed-Data Transmission Systems, Second Edition, August 2005, API Stock No. H50502 | § 250.1202(a)(3).
API MPMS, Chapter 6—Metering Assemblies, Section 1—Lease Automatic Custody Transfer (LACT) Systems, Second Edition, May 1991; reaffirmed March 2002, API Stock No. H30121 | § 250.1202(a)(3).
API MPMS, Chapter 6—Metering Assemblies, Section 6—Pipeline Metering Systems, Second Edition, May 1991; reaffirmed March 2002, API Stock No. H30126 | § 250.1202(a)(3).
API MPMS, Chapter 6—Metering Assemblies, Section 7—Metering Viscous Hydrocarbons, Second Edition, May 1991; reaffirmed March 2002, API Stock No. H30127 | § 250.1202(a)(3).
API MPMS, Chapter 7—Temperature Determination, Measurement Coordination, First Edition, June 2001, API Stock No. H07001 | § 250.1202(a)(3), (l)(4).
API MPMS, Chapter 8—Sampling, Section 1—Standard Practice for Manual Sampling of Petroleum and Petroleum Products, Third Edition, October 1995; reaffirmed March 2006, API Stock No. H30161 | § 250.1202(b)(4)(i), (l)(4).
API MPMS, Chapter 8—Sampling, Section 2—Standard Practice for Automatic Sampling of Liquid Petroleum and Petroleum Products, Second Edition, October 1995; reaffirmed June 2005, API Stock No. H08022 | § 250.1202(a)(3), (l)(4).
API MPMS, Chapter 9—Density Determination, Section 1—Standard Test Method for Density, Relative Density (Specific Gravity), or API Gravity of Crude Petroleum and Liquid Petroleum Products by Hydrometer Method, Second Edition, December 2002; reaffirmed October 2005, API Stock No. H09012 | § 250.1202(a)(3), (l)(4).
API MPMS, Chapter 9—Density Determination, Section 2—Standard Test Method for Density or Relative Density of Light Hydrocarbons by Pressure Hydrometer, Second Edition, March 2003, API Stock No. H09022 | § 250.1202(a)(3), (l)(4).
API MPMS, Chapter 10—Sediment and Water, Section 1—Standard Test Method for Sediment in Crude Oils and Fuel Oils by the Extraction Method, Second Edition, October 2002, API Stock No. H10012 | § 250.1202(a)(3), (l)(4).
API MPMS, Chapter 10—Sediment and Water, Section 2—Determination of Water in Crude Oil by Distillation Method, First Edition, April 1981; reaffirmed 2005, API Stock No. H30202 | § 250.1202(a)(3), (l)(4).
API MPMS, Chapter 10—Sediment and Water, Section 3—Standard Test Method for Water and Sediment in Crude Oil by the Centrifuge Method (Laboratory Procedure), Second Edition, May 2003, API Stock No. H10032 | § 250.1202(a)(3), (l)(4).
API MPMS, Chapter 10—Sediment and Water, Section 4—Determination of Water and/or Sediment in Crude Oil by the Centrifuge Method (Field Procedure), Third Edition, December 1999, API Stock No. H10043 | § 250.1202(a)(3), (l)(4).
API MPMS, Chapter 10—Sediment and Water, Section 9—Standard Test Method for Water in Crude Oils by Coulometric Karl Fischer Titration, Second Edition, December 2002; reaffirmed 2005, API Stock No. H10092 | § 250.1202(a)(3), (l)(4).
API MPMS, Chapter 11.1—Volume Correction Factors, Volume 1, Table 5A—Generalized Crude Oils and JP-4 Correction of Observed API Gravity to API Gravity at 60°F, and Table 6A—Generalized Crude Oils and JP-4 Correction of Volume to 60°F Against API Gravity at 60°F, API Standard 2540, First Edition, August 1980; reaffirmed March 1997, API Stock No. H27000 | § 250.1202(a)(3), (g)(3), (l)(4).
API MPMS, Chapter 11.2.2—Compressibility Factors for Hydrocarbons: 0.350-0.637 Relative Density (60°F/60°F) and −50°F to 140°F Metering Temperature, Second Edition, October 1986; reaffirmed December 2002, API Stock No. H27307 | § 250.1202(a)(3), (g)(4).
API MPMS, Chapter 11—Physical Properties Data, Addendum to Section 2, Part 2—Compressibility Factors for Hydrocarbons, Correlation of Vapor Pressure for Commercial Natural Gas Liquids, First Edition, December 1994; reaffirmed December 2002, API Stock No. H27308 | § 250.1202(a)(3).
API MPMS, Chapter 12—Calculation of Petroleum Quantities, Section 2—Calculation of Petroleum Quantities Using Dynamic Measurement Methods and Volumetric Correction Factors, Part 1—Introduction, Second Edition, May 1995; reaffirmed March 2002, API Stock No. 852-12021 | § 250.1202(a)(3), (g)(1), (g)(2).
API MPMS, Chapter 12—Calculation of Petroleum Quantities, Section 2—Calculation of Petroleum Quantities Using Dynamic Measurement Methods and Volumetric Correction Factors, Part 2—Measurement Tickets, Third Edition, June 2003, API Stock No. H12223 | § 250.1202(a)(3), (g)(1), (g)(2)
API MPMS, Chapter 14—Natural Gas Fluids Measurement, Section 3—Concentric, Square-Edged Orifice Meters, Part 1—General Equations and Uncertainty Guidelines, Third Edition, September 1990; reaffirmed January 2003, API Stock No. H30350 | § 250.1203(b)(2).
API MPMS, Chapter 14—Natural Gas Fluids Measurement, Section 3—Concentric, Square-Edged Orifice Meters, Part 2—Specification and Installation Requirements, Fourth Edition, April 2000; reaffirmed March 2006, API Stock No. H30351 | § 250.1203(b)(2).
API MPMS, Chapter 14—Natural Gas Fluids Measurement, Section 3—Concentric, Square-Edged Orifice Meters, Part 3—Natural Gas Applications, Third Edition, August 1992; reaffirmed January 2003, API Stock No. H30353 | § 250.1203(b)(2).
API MPMS, Chapter 14.5—Calculation of Gross Heating Value, Relative Density and Compressibility Factor for Natural Gas Mixtures from Compositional Analysis, Second Edition, revised 1996; reaffirmed March 2002, API Stock No. H14052 | § 250.1203(b)(2).
API MPMS, Chapter 14—Natural Gas Fluids Measurement, Section 6—Continuous Density Measurement, Second Edition, April 1991; reaffirmed February 2006, API Stock No. H30346 | § 250.1203(b)(2).
API MPMS, Chapter 14—Natural Gas Fluids Measurement, Section 8—Liquefied Petroleum Gas Measurement, Second Edition, July 1997; reaffirmed March 2002, API Stock No. H14082 | § 250.1203(b)(2).
API MPMS, Chapter 20—Section 1—Allocation Measurement, First Edition, August 1993; reaffirmed October 2006, API Stock No. H30701 | § 250.1202(k)(1).
API MPMS, Chapter 21—Flow Measurement Using Electronic Metering Systems, Section 1—Electronic Gas Measurement, First Edition, August 1993; reaffirmed July 2005, API Stock No. H30730 | § 250.1203(b)(4).
API RP 2A-WSD, Recommended Practice for Planning, Designing and Constructing Fixed Offshore Platforms—Working Stress Design, Twenty-first Edition, December 2000; Errata and Supplement 1, December 2002; Errata and Supplement 2, October 2005, API Stock No. G2AWSD | § 250.901(a)(4); § 250.908(a); § 250.920(a), (b), (c), (e).
API RP 2D, Recommended Practice for Operation and Maintenance of Offshore Cranes, Fifth Edition, June 2003, API Stock No. G02D05 | § 250.108(a).
API RP 2FPS, Recommended Practice for Planning, Designing, and Constructing Floating Production Systems, First Edition, March 2001, API Stock No. G2FPS1 | § 250.901(a)(5).
API RP 2RD, Recommended Practice for Design of Risers for Floating Production Systems (FPSs) and Tension-Leg Platforms (TLPs), First Edition, June 1998; reaffirmed May 2006, API Stock No. G02RD1 | § 250.800(b)(2); § 250.901(a)(6); § 250.1002(b)(5).
API RP 2SK, Recommended Practice for Design and Analysis of Stationkeeping Systems for Floating Structures, Third Edition, October 2005, API Stock No. G2SK03 | § 250.800(b)(3); § 250.901(a)(7).
API RP 2SM, Recommended Practice for Design, Manufacture, Installation, and Maintenance of Synthetic Fiber Ropes for Offshore Mooring, First Edition, March 2001, API Stock No. G02SM1 | § 250.901(a)(8).
API RP 2T, Recommended Practice for Planning, Designing, and Constructing Tension Leg Platforms, Second Edition, August 1997, API Stock No. G02T02 | § 250.901(a)(9).
API RP 14B, Recommended Practice for Design, Installation, Repair and Operation of Subsurface Safety Valve Systems, Fifth Edition, October 2005, also available as ISO 10417: 2004, (Identical) Petroleum and natural gas industries—Subsurface safety valve systems—Design, installation, operation and redress, API Stock No. GX14B05 | § 250.801(e)(4); § 250.804(a)(1)(i).
API RP 14C, Recommended Practice for Analysis, Design, Installation, and Testing of Basic Surface Safety Systems for Offshore Production Platforms, Seventh Edition, March 2001, API Stock No. C14C07 | § 250.125(a); § 250.292(j); § 250.802(b), (e)(2); § 250.803(a), (b)(2)(i), (b)(4), (b)(5)(i), (b)(7), (b)(9)(v), (c)(2); § 250.804(a), (a)(6); § 250.1002(d); § 250.1004(b)(9); § 250.1628(c), (d)(2); § 250.1629(b)(2), (b)(4)(v); § 250.1630(a).
API RP 14E, Recommended Practice for Design and Installation of Offshore Production Platform Piping Systems, Fifth Edition, October 1, 1991; reaffirmed June 2000, API Stock No. G07185 | § 250.802(e)(3); § 250.1628(b)(2), (d)(3).
API RP 14F, Recommended Practice for Design and Installation of Electrical Systems for Fixed and Floating Offshore Petroleum Facilities for Unclassified and Class I, Division 1 and Division 2 Locations, Fourth Edition, June 1999, API Stock No. G14F04 | § 250.114(c); § 250.803(b)(9)(v); § 250.1629(b)(4)(v).
API RP 14FZ, Recommended Practice for Design and Installation of Electrical Systems for Fixed and Floating Offshore Petroleum Facilities for Unclassified and Class I, Zone 0, Zone 1 and Zone 2 Locations, First Edition, September 2001, API Stock No. G14FZ1 | § 250.114(c); § 250.803(b)(9)(v); § 250.1629(b)(4)(v).
API RP 14G, Recommended Practice for Fire Prevention and Control on Open Type Offshore Production Platforms, Third Edition, December 1, 1993; reaffirmed June 2000, API Stock No. G07194 | § 250.803(b)(8), (b)(9)(v); § 250.1629(b)(3), (b)(4)(v).
API RP 14H, Recommended Practice for Installation, Maintenance, and Repair of Surface Safety Valves and Underwater Safety Valves Offshore, Fourth Edition, July 1, 1994, API Stock No. G14H04 | § 250.802(d); § 250.804(a)(5).
API RP 14J, Recommended Practice for Design and Hazards Analysis for Offshore Production Facilities, Second Edition, May 2001, API Stock No. G14J02 | § 250.800(b)(1); § 250.901(a)(10).
API RP 53, Recommended Practices for Blowout Prevention Equipment Systems for Drilling Wells, Third Edition, March 1997; reaffirmed September 2004, API Stock No. G53003 | § 250.442(c); § 250.446(a).
API RP 65, Recommended Practice for Cementing Shallow Water Flow Zones in Deep Water Wells, First Edition, September 2002, API Stock No. G56001 | § 250.198; § 250.415(e).
API RP 500, Recommended Practice for Classification of Locations for Electrical Installations at Petroleum Facilities Classified as Class I, Division 1 and Division 2, Second Edition, November 1997; reaffirmed November 2002, API Stock No. C50002 | § 250.114(a); § 250.459; § 250.802(e)(4)(i); § 250.803(b)(9)(i); § 250.1628(b)(3), (d)(4)(i); § 250.1629(b)(4)(i).
API RP 505, Recommended Practice for Classification of Locations for Electrical Installations at Petroleum Facilities Classified as Class I, Zone 0, Zone 1, and Zone 2, First Edition, November 1997; reaffirmed November 2002, API Stock No. C50501 | § 250.114(a); § 250.459; § 250.802(e)(4)(i); § 250.803(b)(9)(i); § 250.1628(b)(3), (d)(4)(i); § 250.1629(b)(4)(i).
API RP 2556, Recommended Practice for Correcting Gauge Tables for Incrustation, Second Edition, August 1993; reaffirmed November 2003, API Stock No. H25560 | § 250.1202(l)(4).
API Spec. Q1, Specification for Quality Programs for the Petroleum, Petrochemical and Natural Gas Industry, ANSI/API Specification Q1, Seventh Edition, June 15, 2003; also available as ISO/TS 29001, Effective Date: December 15, 2003, API Stock No. GQ1007 | § 250.806(a)(2)(ii).
API Spec. 2C, Specification for Offshore Pedestal Mounted Cranes, Sixth Edition, March 2004, Effective Date: September 2004, API Stock No. G02C06 | § 250.108(c), (d).
API Spec. 6A, Specification for Wellhead and Christmas Tree Equipment, ANSI/API Specification 6A, Nineteenth Edition, July 2004; also available as ISO 10423:2003, (Modified) Petroleum and natural gas industries—Drilling and production equipment—Wellhead and Christmas tree equipment, Effective Date: February 1, 2005; Errata 1, September 1, 2004, API Stock No. GX06A19 | § 250.806(a)(3); § 250.1002 (b)(1), (b)(2).
API Spec. 6AV1, Specification for Verification Test of Wellhead Surface Safety Valves and Underwater Safety Valves for Offshore Service, First Edition, February 1, 1996; reaffirmed January 2003, API Stock No. G06AV1 | § 250.806(a)(3).
API Spec. 6D, Specification for Pipeline Valves, Twenty-second Edition, January 2002; also available as ISO 14313:1999, MOD, Petroleum and natural gas industries—Pipeline transportation systems—Pipeline valves, Effective Date: July 1, 2002, Proposed National Adoption, includes Annex F, March 1, 2005, API Stock No. G06D22 | § 250.1002(b)(1).
API Spec. 14A, Specification for Subsurface Safety Valve Equipment, Tenth Edition, November 2000; also available as ISO 10432:1999, Petroleum and natural gas industries—Downhole equipment—Subsurface safety valve equipment, Effective Date: May 15, 2001, API Stock No. GG14A10 | § 250.806(a)(3).
API Spec. 17J, Specification for Unbonded Flexible Pipe, Second Edition, November 1999; Errata dated May 25, 2001; Addendum 1, June 2003, Effective Date: December 2002, API Stock No. G17J02 | § 250.803(b)(2)(iii); § 250.1002(b)(4); § 250.1007(a)(4).
API Standard 2551, Measurement and Calibration of Horizontal Tanks, First Edition, 1965; reaffirmed March 2002, API Stock No. H25510 | § 250.1202(l)(4).
API Standard 2552, USA Standard Method for Measurement and Calibration of Spheres and Spheroids, First Edition, 1966; reaffirmed February 2006, API Stock No. H25520 | § 250.1202(l)(4).
API Standard 2555, Method for Liquid Calibration of Tanks, First Edition, September 1966; reaffirmed March 2002; API Stock No. H25550 | § 250.1202(l)(4).
ASTM Standard C 33-99a, Standard Specification for Concrete Aggregates | § 250.901(a)(11).
ASTM Standard C 94/C 94M-99, Standard Specification for Ready-Mixed Concrete | § 250.901(a)(12).
ASTM Standard C 150-99, Standard Specification for Portland Cement | § 250.901(a)(13).
ASTM Standard C 330-99, Standard Specification for Lightweight Aggregates for Structural Concrete | § 250.901(a)(14).
ASTM Standard C 595-98, Standard Specification for Blended Hydraulic Cements | § 250.901(a)(15).
AWS D1.1:2000, Structural Welding Code—Steel | § 250.901(a)(16).
AWS D1.4-98, Structural Welding Code—Reinforcing Steel | § 250.901(a)(17).
AWS D3.6M:1999, Specification for Underwater Welding | § 250.901(a)(18).
NACE Standard MR0175-2003, Item No. 21302, Standard Material Requirements, Metals for Sulfide Stress Cracking and Stress Corrosion Cracking Resistance in Sour Oilfield Environments | § 250.901(a)(19), § 250.490(p)(2).
NACE Standard RP0176-2003, Item No. 21018, Standard Recommended Practice, Corrosion Control of Steel Fixed Offshore Structures Associated with Petroleum Production | § 250.901(a)(20).

4. Section 250.490(p)(2) is revised to read as follows:

§ 250.490 Hydrogen sulfide.

* * * * *

(p) * * *

(2) Use BOP system components, wellhead, pressure-control equipment, and related equipment exposed to H²S-bearing fluids in conformance with NACE Standard MR0175-03 (incorporated by reference as specified in § 250.198).

5. In § 250.801, revise paragraph (e)(4) to read as follows:

§ 250.801 Subsurface safety devices.

* * * * *

(e) * * *

(4) All SSSV's must be inspected, installed, maintained, and tested in accordance with American Petroleum Institute Recommended Practice 14B, Recommended Practice for Design, Installation, Repair, and Operation of Subsurface Safety Valve Systems (incorporated by reference as specified in § 250.198).

* * * * *

6. In § 250.802, paragraph (d), the first sentence is revised to read as follows:

§ 250.802 Design, installation, and operation of surface production-safety systems.

* * * * *

(d) Use of SSVs and USVs. All SSVs and USVs must be inspected, installed, maintained, and tested in accordance with API RP 14H, Recommended Practice for Installation, Maintenance, and Repair of Surface Safety Valves and Underwater Safety Valves Offshore (incorporated by reference as specified in § 250.198). * * *

* * * * *

7. In § 250.803, revise the last sentence in paragraph (b)(1), to read as follows:

§ 250.803 Additional production system requirements.

* * * * *

(b) * * *

(1) * * * Pressure and fired vessels must have maintenance inspection, rating, repair, and alteration performed in accordance with the applicable provisions of API Pressure Vessel Inspection Code: In-Service Inspection, Rating, Repair, and Alteration, API 510 (except Sections 6.5 and 8.5) (incorporated by reference as specified in § 250.198).

* * * * *

8. In § 250.806, revise paragraph (a)(2)(ii) to read as follows:

§ 250.806 Safety and pollution prevention equipment quality assurance requirements.

(a) * * *

(2) * * *

(ii) API Spec Q1, Specification for Quality Programs for the Petroleum, Petrochemical and Natural Gas Industry (incorporated by reference as specified in § 250.198).

* * * * *

9. In § 250.901, revise paragraph (a)(3) to read as follows:

§ 250.901 What industry standard must your platform meet?

(a) * * *

(3) ANSI/AISC 360-05, Specification for Structural Steel Buildings, (incorporated by reference as specified in § 250.198);

* * * * *

10. In § 250.1002, paragraph (a) is amended by revising the first sentence following the formula and (b)(2) is amended by revising the first sentence to read as follows:

§ 250.1002 Design requirements for DOI pipelines.

(a) * * * For limitations see section 841.121 of American National Standards Institute (ANSI) B31.8 (incorporated by reference as specified in 30 CFR 250.198) where—* * *

(b)(1)* * *

(2) Pipeline flanges and flange accessories shall meet the minimum design requirements of ANSI B16.5, API Spec 6A, or the equivalent (incorporated by reference as specified in 30 CFR 250.198). * * *

* * * * *

11. In § 250.1629, revise the last sentence in paragraph (b) to read as follows:

§ 250.1629 Additional production and fuel gas system requirements.

* * * * *

(b) * * * Pressure and fired vessels must have maintenance inspection, rating, repair, and alteration performed in accordance with the applicable provisions of the American Petroleum Institute's Pressure Vessel Inspection Code: In-Service Inspection, Rating, Repair, and Alteration, API 510 (except §§ 6.5 and 8.5) (incorporated by reference as specified in § 250.198).

* * * * *

[FR Doc. E7-4440 Filed 3-14-07; 8:45 am]

BILLING CODE 4310-MR-P